DEPARTMENT OF LABOR

Office of the Secretary

Agency Information Collection Activities; Submission for OMB Review; Comment Request; YouthBuild Impact Evaluation, Youth Follow-Up Surveys

ACTION: Notice.

SUMMARY: The Department of Labor (DOL) is submitting the Employment and Training Administration (ETA) sponsored information collection request (ICR) proposal titled, “YouthBuild Impact Evaluation, Youth Follow-Up Surveys,” to the Office of Management and Budget (OMB) for review and approval for use in accordance with the Paperwork Reduction Act (PRA) of 1995 (44 U.S.C. 3501 et seq.).

DATES: Submit comments on or before October 15, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-ETA, Office of Management and Budget, Room 10235, 725 17th Street NW., Washington, DC 20503, Fax: 202-395-6881 (this is not a toll-free number), email: OIRA_submission@omb.eop.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: YouthBuild is a youth and community development program addressing several core issues facing low-income communities: Available housing, youth education, employment, and criminal behavior. The program primarily serves high school dropouts and focuses on helping them attain a high school diploma or general educational development and teaching them construction skills geared toward career placement. The YouthBuild Impact Evaluation will measure core program outcomes including educational attainment, postsecondary planning, employment, earnings, delinquency and involvement with the criminal justice system, and social and emotional development. The evaluation represents an important opportunity for the DOL to add to the growing body of knowledge about the impacts of so-called second chance programs for youth who have dropped out of high school. Data for the study is being collected from YouthBuild grantees and from study participants through several information collections. In this ICR, the ETA seeks OMB approval for three follow-up surveys with youth who were randomly assigned in the 83 sites to either a treatment group or control group during earlier aspects of this ongoing experimental evaluation. The surveys will be fielded 12, 30, and 48 months after random assignment.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on May 15, 2012 (77 FR 28623).

Interested parties are encouraged to send comments to the OMB, Office of Information and Regulatory Affairs at the address shown in the ADDRESSES section within 30 days of publication of this notice in the Federal Register. In order to help ensure appropriate consideration, comments should mention OMB ICR Reference Number 201208-1205-007. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: YouthBuild Impact Evaluation, Youth Follow-Up Surveys.

OMB ICR Reference Number: 201208-1205-07.

Affected Public: Individuals or households.

Total Estimated Number of Respondents: 2,772.

Total Estimated Number of Responses: 2,772.

Total Estimated Annual Burden Hours: 1,848.

Total Estimated Annual Other Costs Burden: $0.

Dated: September 10, 2012.
Michel Smyth,
Departmental Clearance Officer.

[FR Doc. 2012-22630 Filed 9-13-12; 8:45 am]

BILLING CODE 4510-FN-P